ENVIRONMENTAL PROTECTION AGENCY

[EPA-HQ-OECA-2013-0329; FRL-9903-66-OEI]

Information Collection Request Submitted to OMB for Review and Approval; Comment Request; NSPS for Rubber Tire Manufacturing (Renewal)

AGENCY: Environmental Protection Agency (EPA).

ACTION: Notice.

SUMMARY: The Environmental Protection Agency has submitted an information collection request (ICR), “NSPS for Rubber Tire Manufacturing” (EPA ICR No. 1158.11, OMB Control No. 2060-0156), to the Office of Management and Budget (OMB) for review and approval in accordance with the Paperwork Reduction Act (44 U.S.C. 3501 et seq). This is a proposed extension of the ICR, which is currently approved through March 31, 2014. Public comments were requested previously, via the Federal Register (78 FR 33409) on June 4, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 6, 2014.

ADDRESSES: Submit your comments, referencing Docket ID Number EPA-HQ-OECA-2013-0329, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: Respondents are owners or operators of rubber tire manufacturing plants which include each: under-tread cementing operation, sidewall cementing operation, tread end cementing operation, bead cementing operating, green tire spraying operation, Michelin-A operation, Michelin-B operation, and Michelin-C automatic operation. The standards require the submission of notification when conducting performance tests and periodic reporting including semiannual reports of excess emissions and annual reports of Method 24 formulation data.

Form Numbers: None.

Respondents/affected entities: Rubber tire manufacturing facilities.

Respondent's obligation to respond: Mandatory (40 CFR part 60, subpart BBB).

Estimated number of respondents: 41 (total).

Frequency of response: Initially, annually, and semiannually.

Total estimated burden: 17,684 hours (per year). “Burden” is defined at 5 CFR 1320.3(b).

Total estimated cost: $1,746,207 (per year), includes $16,400 annualized capital or operation & maintenance costs.

Changes in the Estimates: There is an adjustment increase in the respondent burden from the most-recently approved ICR. Based on consultation comments received in development of this ICR, the frequency of occurrence for burden items “monitoring of VOC emissions and operations” and “recording startup, shutdown, and malfunction” were revised to account for 350 days per year operation, which is typical for current plant operation in the industry sector. This results in an increase in respondent burden hours and costs.

There is also a decrease of one burden hour for the Agency as a result of rounding. This ICR calculates all burden hours and costs to two decimal places and presents a more precise estimate.

Richard T. Westlund,
Acting Director, Collection Strategies Division.

[FR Doc. 2013-29133 Filed 12-5-13; 8:45 am]

BILLING CODE 6560-50-P